DEPARTMENT OF THE TREASURY

Submission for OMB Review; Comment Request

January 11, 2010.

The Department of Treasury will submit the following public information collection requirement(s) to OMB for review and clearance under the Paperwork Reduction Act of 1995, Public Law 104-13, on or after the publication date of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 18, 2010 to be assured of consideration.

Bureau of Public Debt (BPD)

OMB Number: 1535-0068.

Type of Review: Extension.

Title: Regulations governing book-entry Treasury Bonds, Notes and Bills.

Description: Beginning in 1986, U.S. Treasury bonds, notes and bills were offered exclusively in book-entry form.

Respondents: Individuals or Households.

Estimated Total Burden Hours: 1 hour.

OMB Number: 1535-0087.

Type of Review: Revision.

Title: Payment by banks and other financial institutions of U.S. Savings Bonds.

Description: Qualified financial institutions are authorized to redeem eligible savings bonds and receive settlement through FRB check collection system.

Respondents: Businesses or other for-profits.

Estimated Total Burden Hours: 45,896 hours.

OMB Number: 1535-0089.

Type of Review: Revision.

Title: Implementing Regulations: Government Securities Act of 1986, as amended.

Description: Regulations require gov. sec. broker/dealers to keep certain records concerning gov. sec. activities and submit financial reports.

Respondents: Businesses or other for-profits.

Estimated Total Burden Hours: 369,664 hours.

Clearance Officer: Judi Owens, (304) 480-8150, Bureau of the Public Debt, 200 Third Street, Parkersburg, West Virginia 26106.

OMB Reviewer: Shagufta Ahmed, (202) 395-7873, Office of Management and Budget, Room 10235, New Executive Office Building, Washington, DC 20503.

Celina Elphage,
Treasury PRA Clearance Officer.

[FR Doc. 2010-765 Filed 1-15-10; 8:45 am]

BILLING CODE 4810-39-P